DEPARTMENT OF TRANSPORTATION

Federal Aviation Administration

14 CFR Part 71

[Docket No. FAA-2017-0233; Airspace Docket No. 17-AWA-1]

Amendment of Class C Airspace; Little Rock, AR

AGENCY: Federal Aviation Administration (FAA), DOT.

ACTION: Final rule, technical amendment.

SUMMARY: This action modifies the Little Rock, AR, Class C airspace area by amending the legal description to update the current airport name and updated airport reference point (ARP) information to match the FAA's aeronautical database and charted information. Additionally, exclusion language is added to the legal description to ensure flight safety and address any potential for confusion where the Class C and restricted area R-2403B airspace areas overlap. This action does not change the boundaries, altitudes, or operating requirements of the Class C airspace area.

DATES: Effective date 0901 UTC, June 22, 2017. The Director of the FEDERAL REGISTER approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Colby Abbott, Airspace Policy Group, Office of Airspace Services, Federal Aviation Administration, 800 Independence Avenue SW., Washington DC, 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it updates the airport name and ARP coordinates for the Bill and Hillary Clinton National/Adams Field airport that is contained in the Little Rock, AR, Class C airspace description and adds language excluding a restricted area that overlaps the Class C airspace area.

History

Class C airspace areas are designed to improve air safety by reducing the risk of midair collisions in high volume airport terminal areas and to enhance the management of air traffic operations in that area. During a recent review of the Little Rock, AR, Class C airspace area description, the FAA identified that the airport's name and ARP geographic coordinates were incorrect. Additionally, the FAA identified that neither the Little Rock Class C airspace nor the restricted area R-2403B description addressed an overlap of the two airspace areas.

This action updates the airport name and ARP geographic coordinates in the Little Rock, AR, Class C description to coincide with the FAA's aeronautical database and charted information. And, this action adds exclusion language to the Little Rock Class C description for R-2403B, when active, to ensure flight safety and avoid potential confusion where the Little Rock Class C and R-2403B airspace areas overlap. This change clarifies the Class C airspace when the restricted area is active. There are no changes to the boundaries, altitudes, or air traffic control procedures resulting from this action.

Class C airspace designations are published in paragraph 4000 of FAA Order 7400.11A, dated August 3, 2016, and effective September 15, 2016, which is incorporated by reference in 14 CFR part 71.1. The Class C airspace designation listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This action amends Title 14 Code of Federal Regulations (14 CFR) part 71 by amending the Little Rock, AR, Class C airspace area description. The airport formerly known as “Little Rock/Adams Field” is renamed “Bill and Hillary Clinton National/Adams Field” and the ARP geographic position for the airport is changed from “lat. 34 °43′44″ N., long. 92 °13′29″ W.” to “lat. 34°43′46″ N., long. 92°13′29″ W.” These amendments to the airport name and ARP geographic coordinates reflect the current information in the FAA's aeronautical database and on associated charts. Additionally, exclusion language for R-2403B was added to read “excluding that airspace within R-2403B when active.” This amendment was made to ensure flight safety and reduce the potential for confusion where the class C and restricted area airspace areas overlap.

This action is an administrative change and does not affect the boundaries, altitudes, or operating requirements of the airspace, therefore, notice and public procedure under 5 U.S.C. 553(b) is unnecessary.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying the Little Rock, AR, Class C airspace area by amending the legal description to contain the current airport name and updating airport reference point (ARP) information to match the FAA's aeronautical database and charted information qualifies for categorical exclusion under the National Environmental Policy Act, and its agency implementing regulations in FAA Order 1050.1F, “Environmental Impacts: Policies and Procedures” regarding categorical exclusions for procedural actions at paragraph 5-6.5a, which categorically excludes from full environmental impact review rulemaking actions that designate or modify classes of airspace areas, airways, routes, and reporting points. Since this action does not change the boundaries, altitudes, or operating requirements of the Class C airspace area, this airspace action is not expected to result in any significant environmental impacts. In accordance with FAAO 1050.1F, paragraph 5-2 regarding Extraordinary Circumstances, this action has been reviewed for factors and circumstances in which a normally categorically excluded action may have a significant environmental impact requiring further analysis, and it is determined that no extraordinary circumstances exist that warrant preparation of an environmental assessment.

Lists of Subjects in 14 CFR Part 71:

Airspace, Incorporation by reference, Navigation (Air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.911A, Airspace Designations and Reporting Points, dated August 3, 2016, effective September 15, 2016, is amended as follows:

Paragraph 4000 Class C Airspace.

* * * * *

ASW AR C Little Rock, AR

Bill and Hillary Clinton National/Adams Field, AR

(Lat. 34°43′46″ N., long. 92°13′29″ W.)

That airspace extending upward from the surface to and including 4,300 feet MSL within a 5-mile radius of the Bill and Hillary Clinton National/Adams Field; and that airspace extending upward from 1,500 feet MSL to and including 4,300 feet MSL within a 10-mile radius of the Bill and Hillary Clinton National/Adams Field from the 030° bearing from the airport clockwise to the 210° bearing from the airport and that airspace extending upward from 1,800 feet MSL to and including 4,300 feet MSL within a 10-mile radius of the airport from the 210° bearing from the airport clockwise to the 310° bearing from the airport and that airspace extending upward from 2,100 feet MSL to and including 4,300 feet MSL from the 310° bearing from the airport clockwise to the 030° bearing from the airport, excluding that airspace within R-2403B when active.

Issued in Washington, DC, on April 4, 2017.
Gemechu Gelgelu,
Acting Manager, Airspace Policy Group.

[FR Doc. 2017-07116 Filed 4-10-17; 8:45 am]

BILLING CODE 4910-13-P